DEPARTMENT OF LABOR

Employment and Training Administration

[TA-W-81,145; TA-W-81,145A; TA-W-81,145B]

Notice of Revised Determination on Reconsideration

[TA-W-81,145]

SUNOCO, INC., R&M REFINING DIVISION INCLUDING ON-SITE LEASED WORKERS FROM ACCREDITED ENVIRONMENTAL TECHNOLOGIES, AMQUIP CORPORATION, ANDERSON CONSTRUCTION SERVICES, BAKER PETROLITE, BAKERCORP, BELL-FAST FIRE PROTECTION INC., BOLTTECH INC., BRAND INSULATION SERVICES, BRAND SCAFFOLD BUILDERS INC. (AKA BRAND INSULATION SERVICES), CATALYST HANDLING SERVICE CO., CHALMERS & KUBECK, CHEF'E CATERING, CINTAS, CLEAN VENTURES, INC., CM TOWERS, INC., COMPU-COM, DELAWARE BAY AND RIVER COOPERATIVE, DEVON PROPERTY SERVICES LLC, EISCO-NJ, FISHER TANK COMPANY, GE ENERGY SERVICES, GODWIN PUMPS OF AMERICA INC., HAGEMEYER NORTH AMERICA, HRI INCORPORATED, INTEGRITY TEST LAB, INTERTEK-CALEB BRETT USA, JJ WHITE, JR METZGER, JOY SERVICES, MATRIX SVC. INDUSTRIAL CONTRACTORS, MADISON LTD, MISTRAS SERVICES GROUP, MOBILE DREDGING AND PUMPING CO., MOTT TANK INSPECTION, O'BRIENT & GERE ENGINEERS INC., PRESIDIO NETWORKED SOLUTIONS, INC., PSC INDUSTRIAL OUTSOURCING, LP, PSCI-PROGRESSIVE SOFTWARE COMPUTING, QUALITY TESTING SERVICES, INC., RAILROAD CONSTRUCTION CO. OF SOUTH JERSEY, INC., REPUBLIC SERVICES OF PENNSYLVANIA, SAGE ENVIRONMENTAL CONSULTING, SAYBOLT, INC., SEALTEC-DIVISION OF SEALCO, INC., SECURITY SERVICES & TECH/AKA ADT ADVANCE INTEGRATION, SERVICE PAINTING, INC., SGS NORTH AMERICA, INC., SHARED SYSTEMS TECHNOLOGY, INC., SERVICE PAINTING INC., SGS NORTH AMERICA, INC., SHARED SYSTEMS TECHNOLOGY, INC., STANTEC CONSULTING CORPORATION, SUNSTATES SECURITY, LLC, TEAM INDUSTRIAL SERVICES, INC., TEKSOLV, INC., THYSSENKRUPP SAFWAY, INC. (DBA SAFWAY SERVICES, INC.), TRICO EQUIPMENT, UNION TANK CAR CO/UTLX, UNITED STATES ROOFING CORPORATION, WILSON, INC., WIRELESS COMMUNICATIONS & ELECTRONICS, XEROX GLOBAL SERVICES, AND ZEROCHAOS 100 GREEN STREET MARCUS HOOK, PENNSYLVANIA

TA-W-81,145A

SUNOCO, INC., R&M 10 INDUSTRIAL HWY, MS4 BUILDING G LESTER, PENNSYLVANIA

TA-W-81,145B

SUNOCO, INC., R&M 3144 PASSYUNK AVENUE PHILADELPHIA, PENNSYLVANIA

On September 14, 2012, the Department of Labor issued a Notice of Affirmative Determination Regarding Application for Reconsideration applicable to workers and former workers of Sunoco, Inc., R&M, Refining Division, Marcus Hook, Pennsylvania (TA-W-81,145), Sunoco, Inc., R&M, Lester, Pennsylvania (TA-W-81,145A), and Sunoco, Inc., R&M, Philadelphia, Pennsylvania (TA-W-81,145B) (hereafter collectively referred to as “Sunoco” or “subject firm”). The subject firm is engaged in activities related to the production of refined petroleum products. Workers are not separately identifiable by product line.

The worker group at the Marcus Hook facility includes on-site leased workers from Accredited Environmental Technologies, Amquip Corporation, Anderson Construction Services, Baker Petrolite, BakerCorp, Bell-Fast Fire Protection Inc., Bolttech Inc., Brand Insulation Services, Brand Scaffold Builders Inc. (aka Brand Insulation Services), Catalyst Handling Service Co., Chalmers & Kubeck, Chef'e Catering, Cintas, Clean Ventures, Inc., CM Towers, Inc., Compu-Com, Delaware Bay and River Cooperative, Devon Property Services LLC, Eisco-NJ, Fisher Tank Company, GE Energy Services, Godwin Pumps of America Inc., Hagemeyer North America, HRI Incorporated, Integrity Test Lab, Intertek-Caleb Brett USA, JJ White, JR Metzger, Joy Services, Matrix Svc. Industrial Contractors, Madison LTD, Mistras Services Group, Mobile Dredging and Pumping Co., Mott Tank Inspection, O'Brient & Gere Engineers Inc., Presidio Networked Solutions, Inc., PSC Industrial Outsourcing, LP, PSCI-Progressive Software Computing, Quality Testing Services, Inc., Railroad Construction Co. of South Jersey, Inc., Republic Services of Pennsylvania, Sage Environmental Consulting, Saybolt, Inc., Sealtec-Division of Sealco, Inc., Security Services & Tech/AKA ADT Advance Integration, Service Painting, Inc., SGS North America, Inc., Shared Systems Technology, Inc., Service Painting Inc., SGS North America, Inc., Shared Systems Technology, Inc., Stantec Consulting Corporation, Sunstates Security, LLC, Team Industrial Services, Inc., Teksolv, Inc., ThyssenKrupp Safway, Inc. (dba Safway Services, Inc.), Trico Equipment, Union Tank Car Co/UTLX, United States Roofing Corporation, Wilson, Inc., Wireless Communications & Electronics, Xerox Global Services, and ZeroChaos.

The worker groups at the Lester and Philadelphia facilities do not include leased workers.

Based on a careful review and clarification of previously-submitted information and additional information obtained during the reconsideration investigation, the Department determines that increased imports of articles like or directly competitive with the refined petroleum products produced by Sunoco contributed importantly to workers' separations and to the decline in sales or production at the afore-identified facilities.

Section 222(a)(1) has been met because a significant number or proportion of the workers at Sunoco have become totally or partially separated, or are threatened with such separation.

Section 222(a)(2)(A)(i) has been met because Sunoco sales and/or production of refined petroleum products have decreased.

Section 222(a)(2)(A)(ii) has been met because aggregate imports of articles like or directly competitive with the refined petroleum products produced by Sunoco have increased during the period of Sunoco's sales and/or production decline.

Finally, Section 222(a)(2)(A)(iii) has been met because increased aggregate imports contributed importantly to the worker group separations and sales/production declines at Sunoco.

Conclusion

After careful review of previously-submitted facts and the additional facts obtained during the reconsideration investigation, I determine that workers of Sunoco, Inc., R&M, Refining Division, including on-site leased workers, Marcus Hook, Pennsylvania (TA-W-81,145), Sunoco, Inc., R&M, Lester, Pennsylvania (TA-W-81,145A), and Sunoco, Inc., R&M, Philadelphia, Pennsylvania (TA-W-81,145B), who were engaged in employment related to the production of refined petroleum products, meet the worker group certification criteria under Section 222(a) of the Act, 19 U.S.C. 2272(a). In accordance with Section 223 of the Act, 19 U.S.C. 2273, I make the following certification:

All workers of Sunoco, Inc., R&M, Refining Division, including on-site leased workers from Accredited Environmental Technologies, Amquip Corporation, Anderson Construction Services, Baker Petrolite, BakerCorp, Bell-Fast Fire Protection Inc., Bolttech Inc., Brand Insulation Services, Brand Scaffold Builders Inc. (aka Brand Insulation Services), Catalyst Handling Service Co., Chalmers & Kubeck, Chef'e Catering, Cintas, Clean Ventures, Inc., CM Towers, Inc., Compu-Com, Delaware Bay and River Cooperative, Devon Property Services LLC, Eisco-NJ, Fisher Tank Company, GE Energy Services, Godwin Pumps of America Inc., Hagemeyer North America, HRI Incorporated, Integrity Test Lab, Intertek-Caleb Brett USA, JJ White, JR Metzger, Joy Services, Matrix Svc. Industrial Contractors, Madison LTD, Mistras Services Group, Mobile Dredging and Pumping Co., Mott Tank Inspection, O'Brient & Gere Engineers Inc., Presidio Networked Solutions, Inc., PSC Industrial Outsourcing, LP, PSCI-Progressive Software Computing, Quality Testing Services, Inc., Railroad Construction Co. of South Jersey, Inc., Republic Services of Pennsylvania, Sage Environmental Consulting, Saybolt, Inc., Sealtec-Division of Sealco, Inc., Security Services & Tech/AKA ADT Advance Integration, Service Painting, Inc., SGS North America, Inc., Shared Systems Technology, Inc., Service Painting Inc., SGS North America, Inc., Shared Systems Technology, Inc., Stantec Consulting Corporation, Sunstates Security, LLC, Team Industrial Services, Inc., Teksolv, Inc., ThyssenKrupp Safway, Inc. (dba Safway Services, Inc.), Trico Equipment, Union Tank Car Co/UTLX, United States Roofing Corporation, Wilson, Inc., Wireless Communications & Electronics, Xerox Global Services, and ZeroChaos, Marcus Hook, Pennsylvania (TA-W-81,145), Sunoco, Inc., R&M, Lester, Pennsylvania (TA-W-81,145A), and Sunoco, Inc., R&M, Philadelphia, Pennsylvania (TA-W-81,145B), who became totally or partially separated from employment on or after February 13, 2010, through two years from the date of this certification, and all workers in the group threatened with total or partial separation from employment on date of certification through two years from the date of certification, are eligible to apply for adjustment assistance under Chapter 2 of Title II of the Trade Act of 1974, as amended.

Signed in Washington, DC, this 28th day of March 2013.
Del Min Amy Chen,
Certifying Officer, Office of Trade Adjustment Assistance.

[FR Doc. 2013-10227 Filed 4-30-13; 8:45 am]

BILLING CODE 4510-FN-P